FEDERAL COMMUNICATIONS COMMISSION

Performance Review Board

AGENCY: Federal Communications Commission.

ACTION: Notice.

As required by the Civil Service Reform Act of 1978 (Pub. L. 95-454), Chairman Julius Genachowski appointed the following executive to the Performance Review Board (PRB): Mindel De La Torre.

Federal Communications Commission.
Marlene H. Dortch,
Secretary.

[FR Doc. 2011-16867 Filed 7-5-11; 8:45 am]

BILLING CODE 6712-01-P